NUCLEAR REGULATORY COMMISSION

[NRC-2009-0552; Docket Nos. 50-275 and 50-323]

Pacific Gas & Electric Company; Notice of Receipt and Availability of Application for Renewal of Diablo Canyon Nuclear Power Plant, Units 1 and 2; Facility Operating Licenses Nos. DPR-80 and DPR-82 for an Additional 20-Year Period

The U.S. Nuclear Regulatory Commission (NRC or Commission) has received an application, dated November 23, 2009, from Pacific Gas & Electric Company (PG&E), filed pursuant to Section 104(b) of the Atomic Energy Act of 1954, as amended, and Title 10 of the Code of Federal Regulations Part 54 (10 CFR Part 54), to renew the operating licenses for the Diablo Canyon Nuclear Power Plant (DCPP), Units 1 and 2. Renewal of the licenses would authorize the applicant to operate each facility for an additional 20-year period beyond the period specified in the respective current operating licenses. The current operating license for DCPP, Unit 1 (DPR-80), expires on November 2, 2024. DCPP, Unit 1, is a four-loop pressurized water reactor designed by Westinghouse. The current operating license for DCPP, Unit 2 (DPR-82), expires on August 26, 2025. DCPP, Unit 2, is also a four-loop pressurized water reactor designed by Westinghouse. Both units are located near San Luis Obispo, California. The acceptability of the tendered application for docketing, and other matters, including an opportunity to request a hearing, will be the subject of subsequent Federal Register notices.

Copies of the application are available to the public at the Commission's Public Document Room (PDR), located at One White Flint North, 11555 Rockville Pike, Rockville, Maryland 20852 or through the internet from the NRC's Agencywide Documents Access and Management System (ADAMS) Public Electronic Reading Room under Accession Number ML093340125. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail to pdr.resource@nrc.gov.

A copy of the license renewal application for DCPP, Units 1 and 2, is also available to local residents near the site at the San Luis Obispo Public Library, 995 Palm Street, San Luis Obispo, California 93401, and at the Paso Robles Public Library, 1000 Spring Street, Paso Robles, California 93446.

Dated at Rockville, Maryland, this 4th day of December 2009.
For the Nuclear Regulatory Commission.
Brian E. Holian,
Director, Division of License Renewal, Office of Nuclear Reactor Regulation.

[FR Doc. E9-29548 Filed 12-10-09; 8:45 am]

BILLING CODE 7590-01-P